DEPARTMENT OF THE INTERIOR

Bureau of Indian Affairs

Final Base Membership Roll of the Catawba Indian Nation (Formerly Known as the Catawba Tribe of South Carolina)

AGENCY: Bureau of Indian Affairs, Interior.

ACTION: Notice.

SUMMARY: On December 22, 1999, the Bureau of Indian Affairs published in the Federal Register (64 FR 71816) a notice of the proposed final base membership roll and membership appeal procedures of the Catawba Indian Nation of South Carolina (formerly known as the Catawba Tribe of South Carolina). This notice announces the final base membership roll of the Catawba Indian Nation of South Carolina.

FOR FURTHER INFORMATION CONTACT: LeAnn Bennett, Bureau of Indian Affairs, Tribal Relations Branch, Eastern Region, Mailstop 260-VA SQ, 3701 North Fairfax Drive, Arlington, VA 22203. Telephone number: (703) 235-3006.

SUPPLEMENTARY INFORMATION: This notice is published pursuant to Section 7 of the Act of October 27, 1993 (Pub. L. 103-116; 107 Stat. 1124) and in exercise of the authority delegated to the Assistant Secretary—Indian Affairs under 25 U.S.C. 2 and 9 and 209 DM 8.

Section 7 of the Act of October 27, 1993 (Act), Pub. L. 103-116, 107 Stat. 1124, directs the Secretary of the Department of the Interior (Secretary) to compile a final base membership roll of members of the Catawba Indian Nation and to publish it in the Federal Register and in three newspapers of general circulation in the Catawba Indian Nation's service area. The purpose of the final base membership roll is to identify individuals eligible for participation in the distribution of funds from the Per Capita Trust Fund established under Section 11(h) of the Act. To be eligible for inclusion on the final base membership roll, individuals must have been living on October 27, 1993, must be listed on or be lineal descendants of persons listed on the membership roll published by the Secretary in the Federal Register on February 25, 1961, or the Catawba Executive Committee must have determined that a particular individual, or his or her lineal ancestors, should have been listed on the 1961 membership roll, but was not.

The following is the final base membership roll of the Catawba Indian Nation of South Carolina and is final for purposes of the distribution of funds from the Per Capita Trust Fund established under Section 11(h) of the Act of October 27, 1993 (Pub. L. 103-116; 107 Stat. 1124).

Dated: July 14, 2000.
Kevin Gover,
Assistant Secretary—Indian Affairs.

Final Base Membership Roll of the Catawba Indian Nation of South Carolina

1. Adams, Aaron

2. Adams, Amanda Brooke

3. Adams, Andre Darris

4. Adams, Christina Elizabeth

5. Adams, Clarence Roddey

6. Adams, Dewey Lee

7. Adams, Franklin Douglas Jr.

8. Adams, Franklin Douglas Sr.

9. Adams, Glenda Naomi

10. Adams, Jaimie She

11. Adams, James Robert

12. Adams, Kimberly Denise

13. Adams, Laura Elizabeth

14. Adams, Mammie Blue

15. Adams, Nelson Judson (Judd)

16. Adams, Thomas Chadwick Jr.

17. Adams, Tyler Lee

18. Adams, Vicky Michelle

19. Adkins, Judy Gail

20. Adkins, Robert Alvin Jr.

21. Adkins, Sharon Gwen

22. Albertson, Brandon Lee

23. Aldridge, Charles Anthony

24. Aldridge, Christopher Lee

25. Alexander, Nona Medlin

26. Allen, Brittany

27. Allen, Devin Michael

28. Allen, Henry Lester Jr.

29. Allen, Kristin

30. Allen, Pheobia Lucinda

31. Anderson, Betty Jo

32. Aos, Angela Marie

33. Armenta, Ana Sopia

34. Armenta, Holly Diana

35. Armenta, Jose Javier

36. Atkinson, Aletta Michele

37. Austin, Hollie Leigh

38. Austin, Jason Eugene

39. Auten, Amy Carrie

40. Auten, Shirley Mae

41. Ayers, Alan Don

42. Ayers, Amy Lynn

43. Ayers, April Leigh

44. Ayers, Ashley Elizabeth

45. Ayers, Avery Stuart

46. Ayers, Claude Kenneth (J.C.)

47. Ayers, Dennis Ervin

48. Ayers, Ernest Wade Jr.

49. Ayers, Foxx E.

50. Ayers, Jacob Mitchell

51. Ayers, Jessica Lynne

52. Ayers, John

53. Ayers, Johnnie Nelson Jr.

54. Ayers, Johnnie Nelson Sr.

55. Ayers, Ralph Lewis

56. Ayers, Robert Heber

57. Ayers, Roger Dale

58. Ayers, Sara H.

59. Ayers, William Frell Jr.

60. Bagley, Doniece

61. Bagley, Jacqueline Diane

62. Bagley, John Wayne

63. Bailey, Amanda Marie

64. Bailey, Dain Adrain

65. Bailey, Fanchon Alicia

66. Bailey, Jan

67. Bailey, Jason Wade

68. Bailey, Karen Angela

69. Bailey, Michael LeRoy Jr.

70. Bailey, Robert Wayne

71. Bailey, Tamara Shannon Nicole

72. Baird, April Marie

73. Baird, Kimberly Denise

74. Baird, McRandall Laurance Jr.

75. Baker, Ashley Mechele

76. Baker, Cindy Renee

77. Baker, Jonathan Wayne

78. Baker, Kathy Evonne

79. Baker, Matthew Bradley

80. Baker, Robert Dale

81. Baker, Sally Elaine

82. Barber, David Kyle

83. Barber, Trina Kaye

84. Barker, Barbara Jean

85. Barker, Brandon Luke

86. Barnes, Cory Neil

87. Barnes, Justin Mark

88. Barnes, Sharon Jean

89. Barnes, Tiffany Michelle

90. Basha, Shelby Nicole

91. Bauer, JoAnn Carol Jean

92. Bauer, Lawrence Peter III

93. Baumgardner, Amanda Nicole

94. Baumgardner, Ashlie Kay

95. Baumgardner, Cheryl Ann

96. Baumgardner, Harlie Kristina

97. Baumgardner, Robert Dale

98. Baumgardner, Teresa Marie

99. Baumgardner, William Arthur Jr.

100. Beck, Calvin Trevor

101. Beck, Daniel Tyler

102. Beck, Donald Jeffery

103. Beck, Duane Early

104. Beck, Fletcher B.

105. Beck, Fletcher Calvin

106. Beck, Gerald Sr.

107. Beck, Gerald Leon III

108. Beck, Gerald Leon Jr.

109. Beck, Jason Roderick

110. Beck, Jennifer Ann

111. Beck, Jeremy Ryan

112. Beck, John C.

113. Beck, John Clarence Jr.

114. Beck, John Henry

115. Beck, Karen Beth

116. Beck, Kellon Taylor

117. Beck, Kimberly Lynn

118. Beck, Lula S.

119. Beck, Major H.

120. Beck, Margaret Helen

121. Beck, Matthew Kyle

122. Beck, Michael Trey

123. Beck, Mindy Sue

124. Beck, Randall Scott

125. Beck, Roderick Neil

126. Beck, Ronald Lee Jr.

127. Beck, Ronald Lee Sr.

128. Beck, Ronnie Lee

129. Beck, Samuel John

130. Beck, Samuel Michael

131. Beck, Samuel Mitchell

132. Beck, Steven Ryan

133. Beck, Tammy Rae

134. Beck, Tara Michele

135. Beck, Tiffanie Denise

136. Beck, Tony Leon

137. Bell, Amber Delora

138. Bell, Colette Williams

139. Bennett, Timothy Wade

140. Bibb, Garrett Spenser

141. Bibb, Patricia Dawn

142. Bibb, Sean Andrew

143. Bibb, Wanda Sue

144. Bickett, Mary Leigh Ann

145. Biggers, Lewis Steven

146. Biggerstaff, Alicia Beth

147. Bishop, Lillie

148. Bjorklund, Cheryl June

149. Black, Christopher Steven

150. Black, Dicy Anna

151. Black, Dustin Shane

152. Black, Jerry Kieth Jr.

153. Blackmon, Baer Brian

154. Blackmon, Donna Lynn

155. Blackmon, Marissa Ann

156. Blackwell, Brandon Dean

157. Blackwell, James Harold

158. Blackwell, Tammy Anise

159. Blackwell, Tammy Lynn

160. Blackwood, Elizabeth Cabaniss

161. Blue, Andrew Gene

162. Blue, Arnold Lee Jr.

163. Blue, Betty

164. Blue, Bobby Everette

165. Blue, Bobby Reid

166. Blue, Carson Taylor

167. Blue, Charles Patrick

168. Blue, Christopher Larson

169. Blue, Christy Shanon

170. Blue, Danna Lynn

171. Blue, Douglas Keith

172. Blue, Gilbert B.

173. Blue, Glenn Taylor

174. Blue, Gracia Kathleen

175. Blue, Harry Reid

176. Blue, Heather Ashley

177. Blue, Henry Leroy

178. Blue, Herbert Roosevelt

179. Blue, Jeffrey Travis

180. Blue, Jessica Leann

181. Blue, Jonathan Aaron

182. Blue, Kalah Danielle

183. Blue, Karen Denise

184. Blue, Kelly Labrian

185. Blue, Mildred Louise

186. Blue, Nathan Taylor

187. Blue, Nathan Timothy

188. Blue, Randall Lavon Jr.

189. Blue, Randall Lavon Sr.

190. Blue, Rebecca Dyann

191. Blue, Samuel Andrew Wheelock

192. Blue, Steven Shawn

193. Blue, Timothy Everett

194. Boatwright, Tanya Marie

195. Bodiford, Bruce Marvin

196. Bodiford, Donald Bruce

197. Bodiford, Hazel Dewey

198. Bodiford, Ted Dewey

199. Bodiford, Terriol James (Terry)

200. Bolick, Beronica Lynn

201. Bolick, Kimberly Michelle

202. Bolick, Robert Eugene III

203. Boone, Brandy LeShae

204. Boone, Cynthia Dawn

205. Boone, Jimmy David

206. Boone, Joshua Wayne

207. Bouler, Thomas Dean

208. Bouler, Tony Alan Jr.

209. Bowers, Melinda Lou

210. Boyd, Debora Darlene

211. Boyd, Shannon Nicole

212. Brackett, Tehra Jansen

213. Brackett, Tyson Wade

214. Brackett, Vicky Jane

215. Bradburn, Edwin Scott

216. Bradburn, Jamie Gayle

217. Braddy, Bryan Reid

218. Braddy, Shayne Michelle

219. Bradley, Clifford Dean Jr.

220. Bradley, Crystal Renee

221. Bradley, Desmon Ryan

222. Bradley, Louise Michele

223. Bradley, Robert Dwayne

224. Bradley, Susan D.

225. Brady, Michael Scott

226. Branham, Anna Maria

227. Branham, Charlotte Ann

228. Branham, Kristopher Lee

229. Branham, Oliver Lee

230. Branham, Rodney Holden

231. Branham, William Lamont

232. Brazell, Della Melissa

233. Brazell, Edward Howard Jr.

234. Brazell, Patsy Denise

235. Brazell, Patty Darnell

236. Breakfield, Laura Kay

237. Brezeale, Christy Lee

238. Bridges, Ellen

239. Brindle, Carl

240. Brindle, Frank Wayne

241. Brindle, Jason Carl

242. Brindle, Jennifer Lynn

243. Brindle, Lorinda Ann

244. Brindle, Melvin Lester

245. Brindle, Missouri Elizabeth

246. Brindle, Patrica Lucille

247. Brindle, Walter Andrew Jr.

248. Brindle, Walter Andrew Sr.

249. Brooks, Arthur Dale

250. Brooks, Christopher Thomas

251. Brooks, Janice Amelia

252. Brooks, Joseph Lee

253. Brown, Arnold Dean

254. Brown, Bobby Norman

255. Brown, Brandon Tyler

256. Brown, Chelsee Ann

257. Brown, Christopher Ethan

258. Brown, David Lee

259. Brown, David Warren

260. Brown, Donald Lester Jr.

261. Brown, Donald Lester Sr.

262. Brown, Donald Richard

263. Brown, Drequanna Marie

264. Brown, Eric Lee

265. Brown, Gary Wayne

266. Brown, Gary William

267. Brown, Harold Dean

268. Brown, Hazel Edward Jr.

269. Brown, Hazel Edward Sr.

270. Brown, James Vernon

271. Brown, Janet

272. Brown, Jessica Elizabeth

273. Brown, Jessica Wenonah

274. Brown, Jessie Thomas

275. Brown, Joel Lee

276. Brown, John Edward

277. Brown, John Jeffrey

278. Brown, John Samuel Jr.

279. Brown, Jonathan Richard

280. Brown, Joshua Wayne

281. Brown, Karen Diane

282. Brown, Kathleen Rogers

283. Brown, Kayla Michelle

284. Brown, Kelly Marie

285. Brown, Leola George

286. Brown, Lewis Herman II

287. Brown, Lewis Herman Sr.

288. Brown, Mandy Marie

289. Brown, Mary Lynn

290. Brown, Melissa Michelle

291. Brown, Michael Edward Jr.

292. Brown, Michael Edward Sr.

293. Brown, Michael Wayne

294. Brown, Mildred Leona

295. Brown, Morgan Ramsey

296. Brown, Myra Edith

297. Brown, Nancy Mae

298. Brown, Otis Roddey

299. Brown, Otis Wayne

300. Brown, Owen Keith

301. Brown, Patrick Neal

302. Brown, Paula Delores

303. Brown, Robbie Lee

304. Brown, Robert Stephen

305. Brown, Roddey Alan

306. Brown, Sally Edith

307. Brown, Sandy Michelle

308. Brown, Scotty Eugene

309. Brown, Stephanie Nicole

310. Brown, Tammy Ann

311. Brown, Teresa Diane

312. Brown, Tommy Clyde

313. Brown, Troy Dean

314. Brown, Troy Gene

315. Brown, Whitney Marie

316. Brown, William

317. Brown, William Clifford

318. Brown, William Larry

319. Brown-Gunderson, Sue

320. Bruce, Donna Jo

321. Bryson, Ina Mahovie

322. Bryson, Kevin Ray

323. Bryson, Myrtle Blanche

324. Bryson, Sanford Anzle Jr.

325. Bryson, Stanley Anzle

326. Bryson, Tasha Lynn

327. Bryson, Trisha Anzle

328. Bucca, Connie Patricia

329. Buckaloo, Eula Kay

330. Buckaloo, Mark Anthony Jr.

331. Buckaloo, Nicholas Cody

332. Buckley, Micheal Loraine

333. Bullin, Jai Anne

334. Burciago, Carol O.

335. Burgess, Angela Renee

336. Burgess, Tondia Carol

337. Burnett, Patricia Ann

338. Burnett, Teresa Mae

339. Burns, Andrew Scott

340. Burns, Christopher

341. Burns, Janie Rose

342. Burns, Kenneth Allen Jr.

343. Burns, Lizzie Jane

344. Burns, Scott Dennis

345. Burris, Brittany Susan

346. Burris, Kimberly Susan

347. Burris, Matthew Douglas

348. Burrows, Stephen Courtney Jr.

349. Burton, Angela Deniece

350. Burton, Jacqueline Louise

351. Burton, Matthew David

352. Byers, Daniel William

353. Byers, Roger James

354. Byrd, Marsha

355. Byrd, Timothy James

356. Cabaniss, Amanda Jo

357. Cabaniss, Courtney Paige

358. Cabaniss, Daniel Hargrove

359. Cabaniss, Jennifer Dawn

360. Cabaniss, Marcille

361. Cabaniss, Mary Cathryn

362. Cabaniss, Nicole Beth

363. Cabaniss Thomas

364. Cabaniss, William Forrest Jr.

365. Cabaniss, William Heath

366. Cabaniss, Zoe Marie

367. Cagle, Angela Delphine

368. Cameron, Jessica Ann

369. Cameron, Sandra K.

370. Cameron, Walter Joseph

371. Campbell, Damien Allen

372. Campbell, Edwin

373. Campbell, Edwin Alan

374. Campbell, Ella Ricky

375. Campbell, Nola

376. Campbell, Paul Edward

377. Campbell, Phillip Christopher

378. Campbell, Rita Fay

379. Campbell, Susan Juanita

380. Campbell, Zachery Lee

381. Canfield, Steven Terrivo

382. Canty, Alonzo George Jr.

383. Canty, Alva B.

384. Canty, Alvin Huey

385. Canty, Amelia Brooke

386. Canty, Angel Marie

387. Canty, Anthony Scott

388. Canty, April Denise

389. Canty, Billy Huey

390. Canty, Billy Jack

391. Canty, Bobby Dean

392. Canty, Carolyn Denise

393. Canty, Catherine

394. Canty, Cecil

395. Canty, Charles Ray

396. Canty, Cheyenne

397. Canty, Christopher Chad

398. Canty, Christopher Lance

399. Canty, Christopher Lee

400. Canty, Clifford Troy

401. Canty, Colond Lee George

402. Canty, Curtis Ray Jr.

403. Canty, Curtis Ray Sr.

404. Canty, Diane Renee

405. Canty, Eddie Henderson

406. Canty, Edwin Bruce

407. Canty, Emily Louise

408. Canty, Eric Jerome

409. Canty, Erica Rose

410. Canty, Erin Melissa

411. Canty, Heyward Jackson Jr.

412. Canty, Huey Columbus

413. Canty, James Eugene

414. Canty, James Henry

415. Canty, Jamie Dawn

416. Canty, Jared Scott

417. Canty, Jarom Dean

418. Canty, Jeffrey Neal

419. Canty, Jessica Lynn

420. Canty, Jessica Mishelle

421. Canty, Jessica Suzan

422. Canty, Johnathon Kyle

423. Canty, Jonathan Jered

424. Canty, Kathryn Ryan

425. Canty, Kathy Elizabeth

426. Canty, Lawrence Laverne Jr.

427. Canty, Lawrence Laverne Sr.

428. Canty, Leonard James

429. Canty, Leonard Taylor

430. Canty, Lisa Marie

431. Canty, Marcus LaCurt

432. Canty, Marion Thomas

433. Canty, Martha Nicole

434. Canty, Natalie Shawnte

435. Canty, Quinlan Russell Schutte

436. Canty, Rebecca Ann

437. Canty, Rhonda Renee

438. Canty, Robert Kirk

439. Canty, Roger B.

440. Canty, Ronald Vance

441. Canty, Scott Dell

442. Canty, Shaun Travis

443. Canty, Stephanie Britt

444. Canty, Steven Ray

445. Canty, Suzanne Marie

446. Canty, Teresa Diane

447. Canty, Timothy Dean

448. Canty, Timothy Joseph

449. Canty, Wallace Lee Jr.

450. Canty, Wallace Lee Sr.

451. Caponis, Jennifer Anne

452. Caponis, John Alvin

453. Caponis, Reina

454. Carlton, Johni Rae

455. Carnwath, Danielle Nicole

456. Carpenter, Christopher Sylvanus Jr.

457. Carpenter, Jane Dilling

458. Carpenter, Paul Michael

459. Carpenter, Timothy Joseph

460. Carroll, Amber Nichole

461. Carroll, Ernest Haskel III

462. Carroll, Karen Elaine

463. Carter, Janice Dorenda

464. Cartwright, Jeremy Shawn

465. Carver, Hailey Nicole

466. Carver, Jack Monroe Jr.

467. Carver, Jacqueline Delores

468. Carver, Kenneth Wayne

469. Carver, Kristen Danielle

470. Carver, Mary Delores

471. Carver, Tracy Lynn

472. Casler, Crystal

473. Castagna, Loren Naomi

474. Castagna, Matthew Joseph

475. Castagna, Rachel Loren

476. Castagna, Samuel Beck

477. Castagna, Zachary Michael

478. Catoe, Christopher Joseph

479. Catoe, Cierra LeAnn

480. Catoe, Donald Lloyd Jr.

481. Catoe, Herbert Pascal

482. Catoe, Leslee June

483. Catoe, Richard David Jr.

484. Catoe, Thomas Lee

485. Catoe, William Brad

486. Caudle, April Leann

487. Caudle, Cammie Lynn

488. Caudle, Daniel Lee

489. Caudle, Edward Chris

490. Caudle, Jason Christopher D.

491. Caudle, Jennifer Rebecca

492. Caudle, Kenneth Darrell

493. Caudle, Mickem James

494. Caudle, Suzanne Nicole

495. Caudle, Sylvia

496. Cauthen, Angela Michele

497. Cauthen, Buster Ray

498. Cauthen, Kandis Brooke

499. Charles, Lyda

500. Cherry, Alice Elaine

501. Cherry, Donald Ray

502. Cherry, Eula May

503. Cherry, Heather Rene

504. Cherry, James Columbus Jr.

505. Cherry, Jennifer Elaine

506. Cherry, Jimmy Dean

507. Cherry, Scotty Ray

508. Childers, Stacy Paige

509. Childers, Teressa Annette

510. Cinqmars, Beverly Francine

511. Cinqmars, Brian Matthew

512. Cinqmars, Ryan Daniel

513. Clark, Nathan Lee Jr.

514. Cline, Damaris Ruth

515. Cline, James Patrick Jr.

516. Cline, Michael Paul

517. Cline, Shirley Lynn

518. Colley, Andrew Steven

519. Colley, Jose Sandoval III

520. Colley, Kristine Elizabeth

521. Colley, Mary Elizabeth

522. Collins, Daniel Howard

523. Collins, James David

524. Colter, Jessica Rey

525. Cookson, Christene Lee

526. Cookson, Christian Darryl

527. Cookson, Corey A

528. Cookson, Jeremy R.

529. Cookson, Jewell Shirley

530. Cookson, Ricardo Harris

531. Cooper, David Lee

532. Cooper, Erica Shawta

533. Cooper, Lisa Maureen

534. Coppersmith, Amy Nadine

535. Corbridge, Nicole Leigh

536. Corbridge, Sandra Marlene

537. Corder, Audrianna Christine

538. Corder, Cecil Idus

539. Corder, Christopher W.

540. Corder, James Ralph Jr.

541. Corder, Joyce I.

542. Corder, Joyce M.

543. Cornwell, Hollis Jordan

544. Cornwell, Tonya Nichol

545. Crawford, Julia May

546. Crawford, Justin Bryant

547. Crawford, Tammy Renee

548. Creel, Mary-Jo Anne

549. Crisco, Deborah Mae

550. Croft, James Franklin

551. Croft, John Pearley

552. Crytser, James Oliver

553. Crytser, Melissa Dawn

554. Crytser, Randy Wayne

555. Crytser, Wayne Alexander

556. Culbertson, Jason Eric

557. Culbertson, Mark Warren Jr.

558. Curtis, Carl Nathan

559. Curtis, Derrick John

560. Curtis, Donna Beck

561. Curtis, Michael Shannon

562. Curtis, Naomi Christine

563. Dabney, Aaron John

564. Dabney, Alan Dwayne

565. Dabney, Jessica Danielle

566. Dabney, Meredith Lindsay

567. Davis, Andrew Wayne

568. Davis, Barry Joseph

569. Davis, Carlene Renee

570. Davis, Christina Renee

571. Davis, Danelle Hazel

572. Davis, Desiree Melinda

573. Davis, Frances L.

574. Davis, Freddie D. Horne

575. Davis, Jayson Lee

576. Davis, Kimberly Denise

577. Davis, Laura Mae

578. Davis, Lilly Ann

579. Davis, Ronald Lee Jacob

580. Davis, Shane Christopher

581. Davis, Sharon Melinda

582. Davis, Tiffany Nicole

583. Deal, Daylon Gene

584. Deal, Stephen Brian

585. Deal, Susan

586. Deal, Waylon Dean

587. Dietrich, Shana Nicole

588. Dietrich, Wanda Jean

589. Dixon, Olivia Grace

590. Dodrill, Tamara Lynn

591. Dorman, Valerie Francine

592. Dorsey-Beck, Eric Mitchell

593. Doster, Teresa Louise

594. Doster, Wanda Renee

595. Dresser, Seth Martin

596. Dresser, Victoria Yvonne

597. Driggers, Angela Marie

598. Driggers, Betty

599. Driggers, Judy Patricia

600. Driggers, Marvin Henry Jr.

601. Dunnells, Amanda Michelle

602. Dunnells, Jeffery Allan

603. Dunnells, Kenneth Wesley

604. Eagan, Tonya Marie Ensley

605. Edgar, Sandra

606. Edington, Patricia Lynn

607. Edwards, Amanda Lynne

608. Edwards, Cara Michelle

609. Edwards, Cindy Lee

610. Edwards, Robert Daniel

611. Edwards, Robert Tyler

612. Ehman, Dean Michael

613. Elkins, Mary Jane

614. Ellison, Elizabeth Leigh-Ann

615. Ellison, Richard William II

616. Esplin, Alice Kris

617. Esplin, Colton Harris

618. Esplin, Kelsey Caroline

619. Evans, David Dewayne Jr.

620. Evans, Holley Amanda

621. Evans, Kelly Wayne

622. Faile, Brittany Ann

623. Farmer, Clyde Eric

624. Farmer, Kathryn

625. Ferrell, Alberta Lavinia

626. Ferrell, Jerri Lee

627. Ferrell, Saleshia Zandora

628. Fincher, Annette Marie

629. Fincher, Sharon Dale

630. Fincher, Stephen Anthony Jr.

631. Fleming, Dana Meshelle

632. Ford, Branden Ray

633. Ford, Katura Ann

634. Fowler, Bobby Lee

635. Fowler, Candy Cleo

636. Fowler, Kathy Marie

637. Fowler, Nettie Jane

638. Fowler, Patrick Thorne

639. Fowler, Ricky Dean

640. Fowler, Robbie Colel

641. Fowler, Stacey Michelle

642. Fowler, Teressa Diane

643. Foxx, Antonio Basil III

644. Foxx, Antonio Basil Jr.

645. Foxx, Brittany Dawn

646. Foxx, Charles Winifred II

647. Foxx, Charles Winifred

648. Foxx, Danny Ray Jr.

649. Foxx, Danny Ray Sr.

650. Foxx, Ernest B.

651. Foxx, Ernest Ryan

652. Foxx, Jimmy Coy

653. Foxx, Joey Edward

654. Foxx, Kari Anne

655. Foxx, Kristen Michelle

656. Foxx, Leshea Breeon

657. Foxx, Lewis Angelo Basil

658. Foxx, Louis Russell

659. Foxx, Michael Wayne

660. Foxx, Nicole Cherise

661. Foxx, Steven Lewis

662. Foxx, Terrill Dwayne Jr.

663. Foxx, Terrill Dwayne Sr.

664. Foxx, Tiffany Jo

665. Foxx, William C Basil

666. Foxx, William Coon Basil Jr.

667. Foxx, William Edward Basil

668. Foxx, Willie Ray

669. Frances Hurn, Brian Jay Robert

670. Francisco, Shirley Ann

671. Franks, Tolani Rochelle

672. Frary, Christopher Paul

673. Frary, Dot Mirian

674. Funderburk, Melissa Shrake

675. Gable, Allen Wayne Jr.

676. Gaddy, Carol Ann

677. Gaillard, Angela Faye

678. Gaillard, Nancy Marie

679. Gantt, Alina Elvina

680. Gantt, Bobby Brian Jr.

681. Gantt, Jessica LeeAnn

682. Gantt, Stacy Renee

683. Garcia, Ben Jr.

684. Garcia, Betty Juanita

685. Garcia, Bonnie

686. Garcia, Edward Guy

687. Garcia, Irene Minerva

688. Garland, Steven E.

689. Garland, Vivian A.

690. Garris, Joan S.

691. Garris, Jonathan Hazel

692. Garris, Shana Louise

693. Gassert, Rita Faye

694. Gaston, Devon Michael

695. Geist, Betty Jean

696. Geist, Brian Keith

697. Geist, Nicole Lynn

698. George, Amanda Leigh

699. George, Amber Leslie

700. George, April Leigh

701. George, Audrey Dale

702. George, Brently Clark

703. George, Brooklyn Nicole

704. George, Bryan Wayne

705. George, Charles Edward

706. George, Charles Lewis

707. George, Christopher Evans

708. George, Claude Leonard

709. George, Courtney Elizabeth

710. George, Crystal Lee

711. George, Curtis Edward

712. George, Cynthia Amanda

713. George, Cynthia Annette

714. George, Eddie Mac

715. George, Elsie Blue

716. George, Emily Wycie

717. George, Evans M. (Buck) Jr.

718. George, Evelyn B.

719. George, Flonnie Evelyn

720. George, Fred Calvin

721. George, Gregory Tige

722. George, Hayley Danyale

723. George, Jennifer Annette

724. George, John Albert

725. George, John Christopher

726. George, John Earl

727. George, John Early

728. George, John Marvin

729. George, Jonathan Nikita

730. George, Joshua Edward

731. George, Kevin Wade Jr.

732. George, Kevin Wade Sr.

733. George, Kristen Nicole

734. George, Landrum L.

735. George, Laverne Randolph Jr.

736. George, Laverne Randolph

737. George, Lawrence Howard

738. George, Leonard Chadwick

739. George, Lewis Brently

740. George, Linda Faye

741. George, Lisa Michelle

742. George, Lynda DeAnn

743. George, Marion Phillip

744. George, Marvin Kelly

745. George, Matthew Asher

746. George, Megan Nicole

747. George, Michael Allen

748. George, Moroni Taylor

749. George, Nathan Charles

750. George, Nyeoka Iona

751. George, Phillip Anthony

752. George, Phillip Dekota Two Bears

753. George, Phillip Keith

754. George, Rachel Lee

755. George, Robert Neil

756. George, Roger Wayne

757. George, Sara Louise

758. George, Shannon Leigh

759. George, Summer Lyne

760. George, Susan M.

761. George, Susan Marie

762. George, Thomas Clark

763. George, Thomas Howard

764. George, Tina Ann

765. George, Tracy Alan

766. George, William Joseph Corrichee

767. George Warren, DeLesslin Evans

768. George Warren, K. C.

769. George Warren, Wanda

770. Gibson, Annette Maurice

771. Gibson, Fannie Lavina

772. Gibson, Frances Virginia

773. Gibson, Jason Matthew

774. Gibson, Joshua Dakota

775. Gibson, Mary

776. Gibson, Robert Reid

777. Giles, Catherine Renee

778. Giles, Christopher Ray

779. Giles, Shannon Leigh

780. Gillilan, John Strickland Jr.

781. Gillilan, Jon Allen

782. Gillilan, Matthew Ryan

783. Gillis, Dwana Menjon

784. Glenn, Tina Michelle

785. Gonzales, Donna Leola

786. Gonzales, Katrina Larae

787. Gonzales, Kimberly Dawn

788. Goodwin Frances Inez

789. Gordon, Carson Matthew

790. Gordon, Sheryl

791. Gordon, Wesley Olin

792. Graham, Jason Gregory

793. Graham, Jillian Gayle

794. Graham, Jonathon Yates

795. Graham, Joseph Gartman

796. Graham, Joshua Garrison

797. Graham, Karen Rebecca

798. Graham, Karl Ray

799. Graham, Kevin Ross

800. Graham, Kimberly Rebecca

801. Graham, Kurtis Randall

802. Green, Aaryn Rae

803. Green, Caitlin Elizabeth

804. Green, Edwin Brian

805. Green, Emma Karie

806. Green, Frederick Dane.

807. Green, Hal Ephraim

808. Green, Joyce M.

809. Green, Justin Adam

810. Green, Kelli Katherine

811. Green, Lindsay Joyce

812. Green, Norah Nicole

813. Gregory, Beverly Nicole

814. Gregory, Karen Yvonne

815. Greiner, Hazel Faye

816. Grice, Melissa Dawn

817. Grice, Robert Caelum

818. Griggs, Bonita Sue

819. Griggs, Brandon Charles

820. Griggs, Brandy Michelle

821. Griggs, Christopher Charles

822. Griggs, Miranda Christian

823. Grobusky, Charles Christopher

824. Grobusky, Joseph Stanley

825. Guinn, James Dylan

826. Gunn, Andrew Paul

827. Gunn, Angela Denine

828. Gunn, David Howard III

829. Gunn, David Howard Jr.

830. Gunn, Floyd Lee Jr.

831. Gunn, Floyd Lee Sr.

832. Gunn, Lou Ella

833. Gunn, Mary Faye

834. Gunn, Nancy Jane

835. Gunn, Nellie Faye

836. Gunn, Patricia Lucille

837. Gunn, Richard A. Jr.

838. Gunn, Richard A.

839. Gunn, Susan

840. Gunn, Wanda Diane

841. Gunton, Fannie Ellen

842. Gunton, Geneva Geraldine

843. Hafner, Christian David

844. Hafner, Myra June

845. Haire, Chrystal Louisa

846. Haire, Wenonah Caitlin

847. Haire, Wenonah George

848. Hall, Victoria Shelle

849. Hamacher, Anna Marie

850. Hamacher, Heather Elizabeth

851. Hamacher, Jerry Wayne II

852. Hamm, Raymond Edward

853. Hamm, Robert Leroy

854. Hamm, Tabatha Avery

855. Hamm, Tad Allen Jr.

856. Hammond, Bobby Ray

857. Hammond, Christopher Ian

858. Hammond, David Kenneth

859. Hammond, Gerald James III

860. Hammond, Gerald James Jr.

861. Hammond, Nora Lee

862. Hanebrink, Adam Michael

863. Hanebrink, Erika Lynn

864. Hanebrink, Robyn Jolene

865. Hansen, Billie Jo

866. Harrell, Joseph Ryan

867. Harris, Adam Kenneth

868. Harris, Alfred Kenneth

869. Harris, Alfred Neal

870. Harris, Alice Loretta

871. Harris, Amanda Renee

872. Harris, Amanda Reola

873. Harris, April Lynn

874. Harris, Arzada Marie Itu’se

875. Harris, Barry Dean

876. Harris, Barry Dean James

877. Harris, Barry Phillip Jr.

878. Harris, Barry Phillip Sr.

879. Harris, Bertha

880. Harris, Bethany Michelle

881. Harris, Beulah

882. Harris, Billy Ray

883. Harris, Bradley Scott

884. Harris, Brandi Michelle

885. Harris, Brandon Beaumont

886. Harris, Brian Adam

887. Harris, Calvin Wayne

888. Harris, Carl Bazil

889. Harris, Carl Elbert Jr.

890. Harris, Charles Roger

891. Harris, Christopher Loran

892. Harris, Cleadous O'Neal

893. Harris, Cody Darryl

894. Harris, Curtis Douglas

895. Harris, Dale Wallace

896. Harris, Darryl Kent

897. Harris, David Adam

898. Harris, David Loran

899. Harris, David Steve

900. Harris, Dewey Wallace

901. Harris, Donald Brian

902. Harris, Donald Wilford

903. Harris, Donnie Ray

904. Harris, Donnie Ray Edward

905. Harris, Dwaine Gilbert

906. Harris, Dwaine Gregory

907. Harris, Dwayne Phillip

908. Harris, Elizabeth Lauren

909. Harris, Ellen Deloria

910. Harris, Emily Joann

911. Harris, Eric Loran

912. Harris, Ethan Lloyd William

913. Harris, Floyd William Jr.

914. Harris, Floyd William

915. Harris, Franklin Carlisle

916. Harris, Furman George

917. Harris, Garfield C.

918. Harris, Garland Wesley Jr.

919. Harris, Garland Wesley Sr.

920. Harris, Georgia H.

921. Harris, Glenda Diane

922. Harris, Grady Crawford

923. Harris, Heather Lynn

924. Harris, Heather Nicole

925. Harris, Holly Dawn

926. Harris, Homer Vernon

927. Harris, Jacob Kent

928. Harris, James Anthony

929. Harris, James Loren Jr.

930. Harris, James Michael

931. Harris, James Wade Jr.

932. Harris, James Wade Sr.

933. Harris, James Wesley

934. Harris, James William

935. Harris, Jason Matthew

936. Harris, Jason Maurice

937. Harris, Jefferson W. C.

938. Harris, Jeffrey Charles

939. Harris, Jessica Hope

940. Harris, Jodi Kay

941. Harris, John Rella Jr.

942. Harris, John Rella Sr.

943. Harris, Jonathon David

944. Harris, Joseph Dakota

945. Harris, Joseph Franklin

946. Harris, Joseph W.

947. Harris, Joshua Paul

948. Harris, Justin Bryant

949. Harris, Kalum Douglas Reed

950. Harris, Karen Ann

951. Harris, Kelly Aaron

952. Harris, Kelly Neal

953. Harris, Kevin Leonard

954. Harris, Kimberly Ann

955. Harris, Lester Nathaniel

956. Harris, Lester Neal

957. Harris, Linda Sue

958. Harris, Lorna F.

959. Harris, Luther Morgan

960. Harris, Lynda Annette

961. Harris, Martin Raymond

962. Harris, Melvin Howard

963. Harris, Michael Dwayne

964. Harris, Michael Shane

965. Harris, Michael Wayne Jr.

966. Harris, Michael Wayne Sr.

967. Harris, Michael William

968. Harris, Mitchell Oliver

969. Harris, Paul Christopher

970. Harris, Paul Kenneth Jr.

971. Harris, Paul Kenneth Sr.

972. Harris, Peggy Elizabeth

973. Harris, Philip Lee

974. Harris, Randolph Gerard

975. Harris, Reece O'Neil

976. Harris, Robert Curtis

977. Harris, Roger Bazil

978. Harris, Roger Curtis

979. Harris, Roger Gerard (Jerry)

980. Harris, Ronald Floyd

981. Harris, Shaun Mychal

982. Harris, Stanley Spencer

983. Harris, Tara Marie

984. Harris, Theresa Lee

985. Harris, Thomas Edward

986. Harris, Timmy Loran

987. Harris, Timothy Dale

988. Harris, Timothy Neal

989. Harris, Tina Oveda

990. Harris, Tracy Irene

991. Harris, Tracy Marie

992. Harris, Travis William

993. Harris, Victor Lee

994. Harris, Vonda Darlene

995. Harris, Walter Lloyd Jr.

996. Harris, Walter Lloyd Sr.

997. Harris, Wendell Loran II

998. Harris, Wendell Loran

999. Harris, Wilburn

1000. Harris, Wilford Phillip

1001. Harris, Willard Leon Jr.

1002. Harris, Willard Leon Sr.

1003. Harris, William Bryan

1004. Harris, Woodrow

1005. Harris-Adams, Teresa

1006. Harrison, Daniel Hutchinson

1007. Harrison, Marilyn Ann

1008. Harsey, Frances

1009. Harsey, Lacey Jaye

1010. Harsey, Samantha Renee

1011. Hawkins, Pamela Jean

1012. Haywood, Ryan Cheyene

1013. Hedgepath, Ashley Nicole

1014. Hedgepath, Cody Lee

1015. Hedgepath, Cora Paulette

1016. Hedgepath, Robert Daniel

1017. Hedgepath, Ronald Wayne Jr.

1018. Hedgepath, Ronald Wayne

1019. Hedgepath, Sherman Dale Jr.

1020. Hellewell, Shauna

1021. Hellewell, Tamara Nicole

1022. Helms, Jason Keith

1023. Helms, Rhonda Denine

1024. Hemby, Aaron Wade

1025. Henderson, Amy Michelle

1026. Henderson, Nicholas Shane

1027. Hendrix, Justin Derrick

1028. Hendrix, Robert Floyd Jr.

1029. Hendrix, Thelma Canty

1030. Henson, Cynthia Lynn

1031. Henson, Emily Suzanne

1032. Herring, Andria Kristi

1033. Herring, Angel Rebecca

1034. Herring, Anthoney David

1035. Herring, Belinda Faye

1036. Herring, Cathy Paulette

1037. Herring, Jamie Faye

1038. Herring, Katherine Suzanne

1039. Herring, Lenny Dwayne

1040. Herring, Victoria Kaye

1041. Hines, Autumn Lamareal

1042. Hines, Clayton Thomas

1043. Hines, Kevin Taylor Scott

1044. Hinson, Anita Canty

1045. Hinson, Carrie Lynn

1046. Hodge, Hazel Elizabeth

1047. Hodge, Jeffrey Allen

1048. Hodge, Joshua David

1049. Hodge, Lisa Anne

1050. Hodge, Matthew Steven

1051. Hodge, Nicholas Blair

1052. Honaker, April Renee

1053. Honaker, Barbara Allen

1054. Honaker, Nicole Danielle

1055. Honeycutt, Ashley Brooke

1056. Honeycutt, Earl Henry III

1057. Honeycutt, Jacqueline Marie

1058. Honeycutt, John Timothy

1059. Honeycutt, Robert Wayne II

1060. Honeycutt, Roberta

1061. Honeycutt, Sandy Kay

1062. Honeycutt, Trisha Suzanne

1063. Honeycutt, Troy T

1064. Honeycutt, Troy Thomas Jr.

1065. Hooks, Constance V.

1066. Hooks, Wendy Leigh

1067. Hooper, Karen Tennille

1068. Horne, Melissa

1069. Hosmer, Allison Leigh

1070. Hosmer, Anthony Ryan

1071. Hosmer, Brian Phillip

1072. Hosmer, Ila Gail

1073. Houskeeper, Jay Dee

1074. Hovis, Kimberly Nicole

1075. Howard, Billy Joe

1076. Howard, Cassie Lynn

1077. Howard, Charles James

1078. Howard, David Wayne

1079. Howard, Debbie Ann

1080. Howard, James Moore Jr.

1081. Howard, James Travis Sr.

1082. Howard, Jessica Ann

1083. Howard, John Leslie Jr.

1084. Howard, Tom Williams

1085. Howard, Victoria Elizabeth

1086. Howard, William Paul

1087. Howe, Steven Wayne III

1088. Howington, Angela Talley

1089. Hubbard, Amanda Michelle

1090. Hubbard, Barbara Annette

1091. Hubbard, Brandon Edward

1092. Hubbard, Michael Tracy

1093. Hubbard, Richard Dustin

1094. Huddleston, Lori Anne

1095. Hudson, Jeffrey William Jr.

1096. Hudson, Mallory Paige

1097. Hudson, Rebecca Carleen

1098. Hueitt, Mark William II

1099. Hueitt, Richard Daniel

1100. Huffstetler, Kayce Douglas

1101. Huffstetler, Whitney Ayers

1102. Humphries, Corey Michael

1103. Humphries, Jennifer Alane

1104. Humphries, Rosa H.

1105. Hungate, Caitlyn Jayne

1106. Hungate, Caryn Louise

1107. Hungate, Lauren Ashley

1108. Hungate, Mederith Trimnal

1109. Hunter, Elizabeth Ashley

1110. Hunter, Jenna Camille

1111. Hunter, Josephine

1112. Hunter, Jude Alan

1113. Hunter, Julius Calvin

1114. Hunter, Lillie Viola

1115. Hunter, Marsha Rene

1116. Hunter, Matthew Calvin

1117. Hunter, Paige

1118. Hunter, Raegan

1119. Hunter, Shelly Jeannine

1120. Hurn, Joseph Emery Darrell

1121. Hutchinson, Sandra Delores

1122. Hyatt, Cheryl Ann

1123. Hyatt, David Wayne

1124. Hyatt, John Curtis

1125. Hyatt, Tiffany Marie

1126. Hyman, Aaron DuPree

1127. Hyman, Angela Paulette

1128. Hyman, Joshua Kenneth

1129. Jackson, Teresa Lynn

1130. James, Anthony Eugene

1131. James, Pamela Sue

1132. Johnson, Amber Courtney

1133. Johnson, Amber Shavon

1134. Johnson, Amy Ray

1135. Johnson, Courtney Amanda

1136. Johnson, Crystal Renee

1137. Johnson, Destiny Marie

1138. Johnson, Gary Brent

1139. Johnson, Hadden Delano

1140. Johnson, James Durrand

1141. Johnson, Jane A.

1142. Johnson, Jeccica Brooke

1143. Johnson, Jessica Brooke

1144. Johnson, Joseph Hadden

1145. Johnson, Kimberly Gay

1146. Johnson, Lanie India

1147. Johnson, Marty Adam

1148. Johnson, Pamela Sue

1149. Johnson, Priscilla Blue

1150. Johnson, Robert Lee

1151. Johnson, Ruthie Mae

1152. Johnson, Santana Danielle

1153. Johnson, Scott Leroy

1154. Johnson, Spencer Glenn

1155. Johnson, Trey Michael

1156. Joiner, Beverly Allyn

1157. Joiner, Jared Nathaniel

1158. Joiner, Jason Matthew

1159. Joiner, Justin Allen

1160. Jones, Angela Marie

1161. Jones, Angelica Sheree

1162. Jones, Daniel Jacob

1163. Jones, James Anthony (Tony)

1164. Jones, Kerri Elizabeth

1165. Jones, Stacy Marie

1166. Jordan, Debra Kay

1167. Jordan, Jody Shawn

1168. Jordan, Kevin James

1169. Jordan, Melanie Rose

1170. Jose, Andrew Reid

1171. Kaidbey, Naomi

1172. Keasler, Sabrina Dawn

1173. Keener, James Vester

1174. Keener, Marsha Diane

1175. Keesee, Amber Nicole

1176. Keesee, Charles Edward

1177. Keesee, Jennepher Michelle

1178. Keesee, Robert Lewis

1179. Keim, Shannon Marie

1180. Kekoolani, Henry Paakik Naumanuh III

1181. Kekoolani, Jenne Rene,

1182. Kekoolani, Rene Noelani,

1183. Kellam, Sonja N

1184. Kennedy, Anita Michele

1185. Kennington, Amanda Nicolle

1186. Kennington, Donald Wayne

1187. Kersey, Meagan Nicholle

1188. Kertzel, Carol Crytser

1189. Kertzel, Gordon Frederick IV

1190. Kertzel, Gregory Vernon

1191. Killian, Jessica Blaine

1192. Kimble, Bryan Kenneth

1193. Kimble, Michelle Veronica

1194. Kimbrell, Brandy Michelle

1195. Kimbrell, Cynthia Ann

1196. Kimbrell, Daniel Ray

1197. Kimbrell, Nettie Lou

1198. Kimbrell, Ronnie Lee

1199. Kimbrell, Shannon Nicole

1200. Kimbrell, Susan Darlene

1201. Kirk, Christopher Jacob

1202. Kirk, Clarence Grover III

1203. Kirk, Evelyn A.C.

1204. Kitchen, Elizabeth Ann

1205. Kitchen, Gary Eugene

1206. Kitchen, Wanda Kay

1207. Knight, Anthony Dakota

1208. Knight, Anthony Glenn

1209. Knight, Chasity Christine

1210. Knight, Dana Ivan

1211. Knight, Everett Dupree

1212. Knight, Leah Michele

1213. Knight, Melanie Denise

1214. Knight, Rodney Bill Logan

1215. Knight, Tammy Renee,

1216. Knight, Thomas Wayne,

1217. Knight, Tommy Seth

1218. Konsul, Pamela Antoinette

1219. Korver, Jonathan Tyler

1220. Korver, Ryan Tomas

1221. Korver, Tanya Michele

1222. Kuck, Alaina Justine

1223. Kuck, Amanda Mae

1224. Kuck, Jennifer Leigh

1225. Kuck, Lise Kristine

1226. Lail, Jeremy Allen

1227. Lail, Tanda Michelle

1228. Lail, Zachery James

1229. Lambiasi, Amanda Fern

1230. Lambiasi, Anthony Daniel Jr.

1231. Lambiasi, Elizabeth Joann

1232. Lambiasi, Olene Fern

1233. Largo, Jason Jermie

1234. Largo, Jeanette Guynell

1235. Largo, Lisa Jane

1236. Largo, Mark Anthony

1237. Lawson, Christopher Peyton

1238. Lawson, Kimberly Dawn

1239. Lawther, Tiffany Ayers

1240. Leach, Brandon Gene

1241. Leach, Maranda Kimberly

1242. Leach, Patricia Ann

1243. Lear, Margaret Faye

1244. Lewis, Laurie Ann

1245. Lloyd, Cynthia Wade

1246. Long, Cora Lee

1247. Long, Kimberly Dawn

1248. Love, Christopher Ray Carr

1249. Love, Darryl Lynn

1250. Love, Harley Desiree

1251. Love, Jonathan Todd

1252. Love, Joseph Nicholas Brady

1253. Love, Joshua Lewis Carr

1254. Love, Jutanna C

1255. Love, Jutanna Suzette

1256. Love, Kevin Ray

1257. Love, Melissa Faye

1258. Love, Sylvia Elizabeth

1259. Lovingood, Steven Tyler

1260. Lowder, Vivian

1261. Lowery, Jeremy William

1262. Lowery, Sharon Rose

1263. Lyda, Sandra Diahnne

1264. Lyell, Richard

1265. Lyell, Sylvia Margaret

1266. Lynch, Teresa Deloria

1267. Mackey, Christopher Lee

1268. Mackey, David Windell Jr.

1269. Mackey, Joshua

1270. Mackey, Windell David Sr.

1271. Mancill, Kenneth Earl

1272. Mancill, Mary Frances

1273. Maness, Buddy Ray

1274. Maness, Rebecca

1275. Maness, Robert Allen

1276. Maness, Roger Benton Jr.

1277. Maness, Winona Lee

1278. Manuma, Matthew L.

1279. Margiotta, Brittaney Dianne

1280. Marnach, Elizabeth Marie

1281. Marshall, Melissa Nicole

1282. Martin, Bryan Keith

1283. Martin, Cassondra Felice

1284. Martin, Daniel Earl

1285. Martin, Derrick Nicholas

1286. Martin, Heather Celeste

1287. Martin, Jackie Wesley

1288. Martin, Kimberlee Eula

1289. Martin, Louise Renee Honeycutt

1290. Martin, Malcome

1291. Martin, Melissa Kay

1292. Mason, Janet Renee

1293. Mason, Kristy Louise Odell

1294. Mason, Wanda Denise

1295. Mayfield, Ashley Michelle

1296. Mayfield, Kandice Alicia

1297. Mayfield, Kelly Cheri

1298. Mayne, Alyssa Nicole

1299. Mayne, Dawn Michelle

1300. Maynor, Briana Michelle

1301. Maynor, Rebecca Lynn

1302. Maynor, Rose Marie

1303. McAteer, Felicia Dawn

1304. McAteer, Jessica Lynn

1305. McCall, Jessica Leigh

1306. McCall, Kailen Paige

1307. McCall, Patricia Renee

1308. McCraw, Deborah Kay

1309. McCraw, Magan Elizabeth

1310. McCraw, Matthew David

1311. McDaniel, Daphene Delois

1312. McDaniel, Jannie Canty

1313. McDaniel, Jeremy Dean

1314. McDaniel, Rachel Celeste

1315. McGinnis, Elizabeth Jane

1316. McGinnis, Tammy Louise

1317. McGinnis, Tracy Ann

1318. McGraw, Amanda Kay

1319. McGraw, Daryl Owens Jr.

1320. McHugh, Kimberly Sue

1321. McHugh, Stephanie Lynn

1322. McKellar, Billie Anne

1323. McKellar, Jessica Lauren

1324. McKellar, Steve Eugene Jr.

1325. McKinney, Bryan Patrick

1326. McKinney, Evan Joel

1327. McKinney, Joyce Pamela

1328. McKinney, Justin Everett

1329. McKinney, Lauren Celeste

1330. McKinney, Seth Williamson

1331. McManus, Bryan Douglas Jr.

1332. McManus, Deborah Mae

1333. McManus, Edward Dron

1334. McManus, Eryn Celeste

1335. McManus, James Cory

1336. McManus, Karrie Celeste

1337. McManus, Timothy Daniel

1338. Medlin, Charles Robert

1339. Medlin, Jason Charles

1340. Medlin, Tonda Marjean

1341. Medlin, William Lamont

1342. Medlock, Alisa Kay

1343. Medlock, Doris Kay

1344. Medlock, Jared Ray

1345. Melech, Patricia Charlene

1346. Melton, Ashley

1347. Melton, Cynthia Denise

1348. Melton, Justin Kyle

1349. Melton, Kristina Janette

1350. Melton, Steven Andrew

1351. Mercer, Bryan Anthony

1352. Mercer, Leesa Louise

1353. Mercer, Mark Allen Jr.

1354. Merritt, Adrienne Marie

1355. Merritt, James Matthew

1356. Merritt, Patricia

1357. Miller, Ester

1358. Miller, Larry Timothy

1359. Miller, Shelly Renee

1360. Mills, Dorenda Michelle

1361. Mills, Howard Adam

1362. Mitchell, Heather Cecelia

1363. Mitchell, John

1364. Mitchell, Katherine Marie

1365. Mitchell, Misti Lynn

1366. Mixon, Shannon Janice

1367. Mock, Dustin Kyle

1368. Mock, Vickie Renee

1369. Molony, Audrey Leigh

1370. Molony, Melissa Lauren

1371. Molony, Tammy Kay

1372. Moore, Ashley

1373. Moore, Atuake Ann

1374. Moore, Joann

1375. Moore, Kristy Denise

1376. Moore, Roger Dale Jr.

1377. Morgan, Jefferson Scott Jr.

1378. Morgan, Jennette

1379. Morgan, Laurie Lynette

1380. Morgan, Michelle Lu Raye

1381. Morgan, Timothy Scott

1382. Morris, Ann Garnet

1383. Morris, Ashley Brooke

1384. Morris, Bonnie Leverne Jr.

1385. Morris, Dalton Andrew

1386. Morris, Donald Jr.

1387. Morris, Donald D'Angelo

1388. Morris, Robert Lee

1389. Moser, Jennifer Michele

1390. Moss, Billy Odell Jr.

1391. Moss, Billy Odell

1392. Moss, Helen

1393. Moss, Matthew Dell

1394. Moss, Travis Steele

1395. Mullis, Nancy Elizabeth

1396. Mundy, Sandra Faye

1397. Murray, Toy

1398. Nash, Denise Rena

1399. Neely, Lisa Adell

1400. Neely, Steven Wayne

1401. Neely, Wesley Ryan

1402. Nichols, Anthony Wayne

1403. Nichols, Brooklyn Michele Lavinia

1404. Nichols, Haley Denise Michele

1405. Nichols, Karen Denise

1406. Norris, David LaFayette III

1407. Oates, Dorothy Elizabeth

1408. Oates, Nicholas Campbell

1409. Oglesbee, Natlie Nicole

1410. Oglesby, Candis Reagan

1411. Oglesby, Cassandra Leah

1412. Oglesby, Kari Morgan

1413. Oglesby, Rhonda Delores

1414. Oliver, Amanda Renee

1415. Oliver, Jessica Anne Alyssa

1416. Oliver, Justin Emory

1417. Oliver, Margaret Ann

1418. Oliver, Randy Lester

1419. Oliver, Sidney Jerome

1420. Osborn, Alex Todd

1421. Osborn, Clinton Berlin

1422. Osborn, David Todd

1423. Osborn, Dawn Renee

1424. Osborn, Jason Wade

1425. Osborn, Milton Gregg

1426. Osborn, Ruth Danielle

1427. Osborn, Sherry Geraldine

1428. Osborne, Sheila

1429. Osborne, Susan Marlene

1430. Osment, Glenn Ryan

1431. Oswald, Anthony Lee

1432. Oswald, Brittney April Leigh

1433. Oswald, Charles Michael

1434. Outen, Robert Edward Jr.

1435. Owens, Lula Annette

1436. Owens, Randall Chadwick

1437. Owens, Robin Rene

1438. Owens, Samuel Herbert III

1439. Oxendine, Aaron Blake

1440. Oxendine, Della Eleanor

1441. Oxendine, Phillip Drew

1442. Oxendine, Ralph Guy Jr.

1443. Oxendine, Stephen Daniel

1444. Oxendine, Waylon Keith

1445. Page, Kimberly Ann

1446. Parker, Ann

1447. Parker, Heather Nicole

1448. Parker, Jessica Rebecca

1449. Parker, Kelly Michelle

1450. Parker, Toni Kay

1451. Parks, Cody Great Bear

1452. Parks, Jack Big Bear

1453. Parks, Kris Littlebear

1454. Parks, Lauren Alyssa

1455. Parks, Paula Leigh

1456. Parnell, Rhonda Kimberly

1457. Patterson, Christine Leola

1458. Patterson, Salena Marie

1459. Payne, Evonne

1460. Perdue, Benjamin McClure

1461. Perdue, Billy James Jr.

1462. Perdue, Elizabeth Blair

1463. Perdue, Mary Frances

1464. Petrini, Caroline Dianne

1465. Petty, Buddy

1466. Petty, Christine

1467. Petty, Cory D'Wayne

1468. Petty, George Samuel

1469. Petty, Jackie Alton Jr.

1470. Petty, Jackie Alton

1471. Petty, Jackie Lynn

1472. Petty, John Wayne

1473. Petty, Johnnie William

1474. Petty, Le-Anne Nicole

1475. Petty, Patricia Ann

1476. Petty, Ronald Vance

1477. Petty, Ronald William

1478. Petty, Wanda Kay

1479. Phillips, Andrea Marie

1480. Phillips, Ashley Nicole

1481. Phillips, Catherine Denise

1482. Phillips, Crystal Nichole

1483. Phillips, Jonathan Corey

1484. Phillips, Robert Dean II

1485. Phillips, Ryan Heath

1486. Phillips, Wanda Kaye

1487. Pittman, Tommy Shane

1488. Pittman, Velma Marlene

1489. Plyler, Arthur Terrance Jr.

1490. Plyler, Arthur Terrance

1491. Plyler, Bruce Allen

1492. Plyler, Charles Martin

1493. Plyler, Donald Olin

1494. Plyler, Gerald Hubert Jr.

1495. Plyler, Gerald Hubert Sr.

1496. Plyler, Jennifer Jean

1497. Plyler, Jordan Violet

1498. Plyler, Joshua

1499. Plyler, Joshua Olin

1500. Plyler, Justin Allen

1501. Plyler, Kassidy Maeghan

1502. Plyler, Leonard

1503. Plyler, Linda Rebecca

1504. Plyler, Mark Jeffery

1505. Plyler, Matthew Joseph

1506. Plyler, Michael Dakota

1507. Plyler, Michael Wayne

1508. Plyler, Norman Lynn

1509. Plyler, Olin Flow Jr.

1510. Plyler, Phillip Keith

1511. Plyler, Sallie Elizabeth

1512. Porter, Frank Delano III

1513. Porter, Jennifer Lauren

1514. Porter, Joshua Wade

1515. Porter, Joy Maudine

1516. Porter, Kevin Christopher

1517. Porter, Lindsay Kimber

1518. Porter, Robin

1519. Poteet, Charlotte Yvonne

1520. Pottenger, Ashley May

1521. Pottenger, Kressent Monique

1522. Pottenger, Shelley Maxine

1523. Potts, Alisha Rae

1524. Potts, Alton Amos

1525. Potts, Alton Dwayne

1526. Potts, Bryant Neal

1527. Potts, Calvin Lee

1528. Potts, Christian Tess

1529. Potts, Johnny Ray

1530. Potts, Krista Leann

1531. Potts, Michael Aaron

1532. Potts, Noah Steven

1533. Potts, Renda

1534. Powell, Jennifer Ellis

1535. Preslar, Jarhett Wade

1536. Price, Cheryl Ann

1537. Price, Jessie Elaine

1538. Price, Jessie Lynn

1539. Price, John Gregory

1540. Price, Kristi Sierra

1541. Price, Kyle Chadwick

1542. Price, Linda Diane

1543. Price, Michael Kalib

1544. Price, Sandra

1545. Price, Timothy John

1546. Price, Valerie Lynn

1547. Privette, Jason Lee

1548. Privette, Jeremy James

1549. Pruitt, Jonathan Lee

1550. Pruitt, Lottie Juanita Vernell

1551. Pryor, Alan Mark

1552. Pryor, Wanda Sue

1553. Pryor, William Eric

1554. Puckett, Ashley Denise

1555. Puckett, Carrie Nicole

1556. Puckett, Constantine

1557. Puckett, James Albert II

1558. Rabon, Emily Elizabeth

1559. Railey, Ka-Laney Dee

1560. Ramey, Robin Crystal

1561. Ramey, Tiffany Dawn

1562. Ramsey, Amanda Lynn

1563. Ramsey, Brandon Lee

1564. Ramsey, Brenda Jean

1565. Ramsey, Christopher Thomas

1566. Ranucci, Susanne

1567. Ratterree, Audrey Bernice

1568. Ratterree, Audrey Reola

1569. Ratterree, Christy Gayle

1570. Ratterree, Kristie Caudle

1571. Ratterree, Tonya Michelle

1572. Ravan, Betty Ruth

1573. Ray, Audrie Christine

1574. Ray, Stacy Simmers

1575. Rayfield, Chanse Robert

1576. Rayfield, Lillian Ann

1577. Rayfield, Robert Dow

1578. Raymond, Zan Marie

1579. Reid, Katherine LeeAnne

1580. Reynders, John David

1581. Reynders, Pieter Benjamin Jr.

1582. Reynders, Ryan Scott

1583. Reynders, Spencer

1584. Reynders, Victoria Yvonne

1585. Rider, Anthoney Micheal

1586. Ridley, Melina Sharee

1587. Ridley, Nina Marae

1588. Riley, Amanda Diana

1589. Riley, Jessica Michelle

1590. Riley, Jill Renee

1591. Riley, Kimberly Christina

1592. Riley, Tammy Renee

1593. Robbins, Barney C.

1594. Robbins, Bradley Earl

1595. Robbins, Bradley M.

1596. Robbins, Earl

1597. Robbins, Flint

1598. Robbins, Frank E.

1599. Robbins, Viola

1600. Roberts, Rosemary

1601. Robertson, Donna Marie

1602. Robertson, Wesley Adam

1603. Robinson, Russell Ramon

1604. Rochester, Cynthia Dianne

1605. Rochester, Jacob Lee

1606. Rochester, James Nicholas

1607. Rochester, Jessica Laine

1608. Rochester, Joseph Tyler

1609. Rodgers, Benjamin Joe

1610. Rodgers, Donald Wayne

1611. Rodgers, Freddie Grace

1612. Rodgers, John Alvin Jr.

1613. Rodgers, John Alvin Sr.

1614. Rodgers, Kim Lee

1615. Rodgers, Marcie Lynn

1616. Rodgers, Timothy Lee

1617. Rogers, Amy Nicole

1618. Rogers, Autumn Nicole

1619. Rogers, Beau Dallas

1620. Rogers, Brooke Elizabeth

1621. Rogers, Dakota Preston

1622. Rogers, Daniel Wayne

1623. Rogers, Ernest D. III

1624. Rogers, Fred Kelly

1625. Rogers, Hannah Danielle

1626. Rogers, James Kelly

1627. Rogers, Jason Daniel

1628. Rogers, Jerry Daniel

1629. Rogers, Jimmie

1630. Rogers, Kaitlyn Miranda

1631. Rogers, Keith Preston

1632. Rogers, Kelly Elizabeth

1633. Rogers, Larry Dwayne II

1634. Rogers, Larry Dwayne

1635. Rogers, Mary Katherine

1636. Rogers, Ronnie

1637. Rogers, Sharon Marie

1638. Rogers, Steven Jarrett

1639. Rogers, Steven Otho

1640. Rogers, Tod Loren

1641. Rogers, William Bradford

1642. Rollins, Amy Michelle

1643. Rollins, Eric Dwayne

1644. Rowe, Adam Thomas

1645. Rowe, Merri

1646. Rowe, Wyatt Dale

1647. Rowley, James Michael II

1648. Rowley, Lisa Ann

1649. Rutland, Kristen Nicole

1650. Sanders, Ada

1651. Sanders, Adrienne Lucretia

1652. Sanders, Albert H. Sr.

1653. Sanders, Albert Henderson III

1654. Sanders, Albert Henderson Jr.

1655. Sanders, Alexis Irene

1656. Sanders, Amanda Brooke

1657. Sanders, Andrew Clark Jr.

1658. Sanders, Andrew Clark Sr.

1659. Sanders, Angela Lea

1660. Sanders, Brenda Cornelia

1661. Sanders, Brooke Lyn

1662. Sanders, Calvin Ray

1663. Sanders, Cecil Glenn

1664. Sanders, Charles Richard

1665. Sanders, Cheryl Darlene

1666. Sanders, Christopher Louis

1667. Sanders, Christy Lee

1668. Sanders, Curtis Allen

1669. Sanders, David Neal

1670. Sanders, Deborah Jean

1671. Sanders, Delta Dawn

1672. Sanders, Donald Wayne

1673. Sanders, Early Fred

1674. Sanders, Elizabeth Denise

1675. Sanders, Franklin Thomas

1676. Sanders, Fred Eugene

1677. Sanders, Jackie Scott

1678. Sanders, John Jack Jr.

1679. Sanders, John Patrick

1680. Sanders, Johnny Shaleko

1681. Sanders, Joshua Derek

1682. Sanders, Justin Charles

1683. Sanders, Kelly Renee

1684. Sanders, Kriston Elaine

1685. Sanders, Lacey Rhea

1686. Sanders, Marcus Emory Jr.

1687. Sanders, Marcus Emory

1688. Sanders, Marilyn

1689. Sanders, Mary Caroleen

1690. Sanders, Michael Glenn

1691. Sanders, Misty Dawn

1692. Sanders, Nikkita Danielle

1693. Sanders, Rachel Nichole

1694. Sanders, Randall Dean

1695. Sanders, Randolph Edward II

1696. Sanders, Randolph Edward Sr.

1697. Sanders, Rikki D.

1698. Sanders, Rodney Wayne

1699. Sanders, Ronald William

1700. Sanders, Scotty Dewayne

1701. Sanders, Shannon Wayne

1702. Sanders, Thomas Burton

1703. Sanders, Thomas Cornelius

1704. Sanders, Thomas Lester

1705. Sanders, Thomas McCloud

1706. Sanders, Tracy Michelle

1707. Sanders, Verdie

1708. Sanders, Warren Brian

1709. Sanders, William Ashley

1710. Sanders, William Louie

1711. Sanders, William Max

1712. Sanders, William Scott

1713. Sanders, Willie Mack

1714. Santillon, Melanie Louise

1715. Schutte, Dawn Wahilani

1716. Schutte, Garth Kaleikini

1717. Scott, Colleen

1718. Scruggs, Jonathan Bradley

1719. Scruggs, Tammy Renee

1720. Shankle, Patricia Ann

1721. Sharpe, Angela

1722. Sharpe, Christopher Wayne

1723. Sharpe, Melissa Renee

1724. Shealy, Barbara Lynn

1725. Shealy, Britanie Margaret

1726. Shealy, Kailyn Marie

1727. Shehan, Lynette

1728. Shehan, Shawn Wesley

1729. Shingler, Anna Danielle

1730. Shingler, Dustin Ashley

1731. Shingler, Sheila

1732. Shirah, Christopher Lee

1733. Shirah, Jamie Allen

1734. Shirah, Reba Louise

1735. Shrake, Freida Marilyn

1736. Shugart, Bethany Rhiannon

1737. Shugart, Helen Louise

1738. Shugart, Jeffery Adams

1739. Shugart, Jennifer Michelle

1740. Shugart, Kenneth Eugene Jr.

1741. Shugart, Rita Shown

1742. Shugart, Steven

1743. Shugart, William Dean II

1744. Shuler, Daniel Scott

1745. Shuler, Joel Christopher

1746. Sigmon, Reba Maxine

1747. Simmers, Brittany Nashea

1748. Simmers, Daniel Ray

1749. Simmers, Daniel Taylor

1750. Simmers, Erika Nicole

1751. Simmers, Garrett Jason

1752. Simmers, James Leon

1753. Simmers, Jason Edward

1754. Simmers, Lisa Louise Marie

1755. Simmers, Rocky Vernon

1756. Simmers, Shelly Jeanette

1757. Sims, Linda Gail

1758. Skar, Eric Tyler

1759. Skar, Letha

1760. Sloat, Patsy Blue

1761. Smeltzer, Katrina Carol

1762. Smith, Anthony Glenn

1763. Smith, Brandon Chaz

1764. Smith, Brandy Michelle

1765. Smith, Candace Natasha

1766. Smith, Cheryl Melissa

1767. Smith, Cinda Darnell

1768. Smith, Dana Marlene

1769. Smith, Deborah Ann

1770. Smith, Doris Jean

1771. Smith, Jonathan Blade

1772. Smith, Joshua Shane

1773. Smith, Kristen Nicole

1774. Smith, Margaret Rebecca

1775. Smith, Robert Earl Jr.

1776. Smith, Robert Earl Sr.

1777. Smith, Sandra Darnell

1778. Smith, Shari Wilson

1779. Smith, Sherri Lynn

1780. Smith, Thomas Franklin Jr.

1781. Smith, Tiffany Lynn

1782. Sotolongo, Amber Mechelle

1783. Sotolongo, Miranda Lynn

1784. Sox, Paul Samuel

1785. Sox, Robert Wesley

1786. Spell, Mary Beth

1787. Spinks, Christopher Allen

1788. Spinks, Debra Lee

1789. Spinks, Thomas Dale Jr.

1790. Spivey, Alisha Danielle

1791. Spivey, Juanita Marie

1792. Spivey, Samantha Victoria

1793. Spivey, Timothy Joe

1794. Stargel, Brittany Michele

1795. Stargel, Shannon Terriol

1796. Starnes, Cynthia

1797. Steiniger, Shirley

1798. Stephenson, Lacey Michelle

1799. Stevens, Barbara Ann

1800. Stevens, Dawn Michelle

1801. Stevens, Melinda Lynn

1802. Stewart, Mary Evelyn

1803. Stewart, Randall Matthew

1804. Stewart, Steven Andrew

1805. Stokes, Barry Dean

1806. Stokes, Billy Joe Jr.

1807. Stokes, Billy Joe

1808. Stokes, Curtis Wayne

1809. Stokes, Daniel Leroy

1810. Stokes, Glenn Edward Jr.

1811. Stokes, Glenn Edward Sr.

1812. Stokes, James Allen

1813. Stokes, Jonathon Coland

1814. Stokes, Joseph Coland Jr.

1815. Stokes, Kenneth R

1816. Stokes, Lisa Nicole

1817. Stokes, Michael Shane

1818. Stokes, Robert Lee Sr.

1819. Stokes, Stella B.

1820. Stokes, Stella Marie

1821. Stokes, Windy Faye

1822. Strickland, Pearlie

1823. Stroud, Brittany Amanda

1824. Stroud, Christopher Dale Jr.

1825. Stroud, Kimberly H.

1826. Sutphin, Iris Lucinda

1827. Sutton, Teresa Diane

1828. Sutton, William Curtis Ayers

1829. Swett, Malinda Darlene

1830. Tadlock, Michael Jason

1831. Talley, Amber Renea

1832. Talley, Barbara Annette

1833. Talley, Curtis Brent Sr.

1834. Talley, Dessa Darlene

1835. Talley, James Heyward II

1836. Talley, Michael Warren

1837. Talley, Myleah Breanne

1838. Talley, Tabitha Darlene

1839. Talley, Warren Edward

1840. Tanner, Brooke Michele

1841. Tanner, Kacey Danielle

1842. Tanner, William Travis

1843. Taylor, Amber Nichole

1844. Teaster, Carrie Christine

1845. Teaster, Etta D.

1846. Teaster, Jimmy Eugene Jr.

1847. Teaster, Jimmy Eugene Sr.

1848. Teaster, Justin Ransom

1849. Teaster, Ransom

1850. Teaster, William Glenn

1851. Teaster, William Harry

1852. Terry, Michelle Lynn

1853. Tessner, Ruth Robbins

1854. Thatcher, Harold Lloyd

1855. Thatcher, Jason Lloyd

1856. Thatcher, Matthew Tyler

1857. Thatcher, Megan Elaine

1858. Thatcher, Rebecca Leigh Ann

1859. Thatcher, Stephen Keith

1860. Therrell, Joyce Ann

1861. Thomas, Amber Lennette

1862. Thomas, Angela Marie

1863. Thomas, Anica Nicole

1864. Thomas, Ashley Nicole

1865. Thomas, Brian Andrew

1866. Thomas, Chrissy Alene

1867. Thomas, Christopher Dwayne

1868. Thomas, Emory Randolph

1869. Thomas, Ericka Leigh

1870. Thomas, Jeffery McDonald

1871. Thomas, Jeremy David

1872. Thomas, Jessica Elaine

1873. Thomas, Kaitlyn Victoria

1874. Thomas, Kristine Elizabeth

1875. Thomas, Larry Allen

1876. Thomas, Louis Scott

1877. Thomas, Marvin Donald III

1878. Thomas, Michael Shannon

1879. Thomas, Michael Steven

1880. Thomas, Ollie Mae

1881. Thomas, Pamela Michelle

1882. Thomas, Peggy

1883. Thomas, Taylor Renee

1884. Thomas, Tiffany Marie

1885. Thomas, Timothy Dale Jr.

1886. Thomas, Timothy Randolph

1887. Thomas, William Byron

1888. Thomas, William Michael

1889. Thompson, Adam Quintin

1890. Thompson, Anna Leigh

1891. Thompson, Clyde Samuel

1892. Thompson, Jessica Lynn

1893. Thompson, Latasha Ann

1894. Thompson, Lois Elvina

1895. Thompson, Rose Maria

1896. Thompson, Scotty Alexander Jr.

1897. Thompson, Scotty Alexander Sr.

1898. Thompson, Stephanie Michelle

1899. Thompson, Virginia Claudette

1900. Thrash, Rita Shawn

1901. Threatt, Josephine Branham

1902. Thurman, Kimberly Dawn

1903. Tinker, Geraldine

1904. Tinker, Matthew David

1905. Tinker, Rebecca Kathryn

1906. Tinker, Stuart Jason

1907. Totherow, Ernest Randall

1908. Totherow, Richard C

1909. Totherow, Shannon Leslie

1910. Townsend, Casey Daniel

1911. Trimnal, Ashley Carol

1912. Trimnal, Becky Christine

1913. Trimnal, Bob Kenneth

1914. Trimnal, Heather Elizabeth

1915. Trimnal, Kathrin Gloria

1916. Trimnal, Samuel Taylor

1917. Trimnal, Thomas Woodrow

1918. Troublefield, Christopher Lee

1919. Troublefield, Joseph Martin

1920. Troublefield, Vanessa Lee

1921. Troxel, David Trent

1922. Troxel, Samuel Neil

1923. Troxel, Shasta Ilene

1924. Troxel, Suzette Michele

1925. Tucker, Margaret Robbins

1926. Tucker, Matthew Earl

1927. Tucker, William Shane

1928. Turney, Carol Lynn

1929. Usher, Jerry Dell

1930. Usher, Norma Jean

1931. Valkenburgh, Rachel Eleanora

1932. Varnadore, Brandon Trent

1933. Varnadore, Brandy Leigh

1934. Varnadore, Christopher Lee

1935. Varnadore, Cory West

1936. Varnadore, Edward Glenn

1937. Varnadore, James Dustin

1938. Varnadore, James Ronald

1939. Varnadore, Jennifer Renea

1940. Varnadore, Kenneth Charles

1941. Varnadore, Laura Merrill

1942. Varnadore, Mathew Chantz

1943. Vincent, Ruby Ayers

1944. Vinson, Elic Wheeler

1945. Wade, Audrea Lynn

1946. Wade, Baxter Bruce

1947. Wade, Beauford

1948. Wade, Brandon Paul

1949. Wade, Christopher Steve

1950. Wade, Cleave Harrison

1951. Wade, Connie Steve Jr.

1952. Wade, Connie Steve Sr.

1953. Wade, Daniel Benjamin

1954. Wade, Dara Danielle

1955. Wade, Edith Frances

1956. Wade, Florence R.

1957. Wade, Glenn Hampton

1958. Wade, Heather Suzanne

1959. Wade, Horace Gary Jr.

1960. Wade, Horace Gary Sr.

1961. Wade, Jason Blair

1962. Wade, Justin Heath

1963. Wade, Krissi Maree

1964. Wade, Michael Gregg

1965. Wade, Michael Lee

1966. Wade, Natalie Renee

1967. Wade, Regina Suzanne

1968. Wade, William Christopher

1969. Wade, William Eric

1970. Wade, William Perry Jr.

1971. Wade, William Perry Sr.

1972. Walker, Darien Matthew

1973. Walker, Lora Anne

1974. Wall, Corey Allen

1975. Wall, Stephanie Nicole

1976. Wall, Winona Lyne

1977. Walsh, Bessie Valoy

1978. Ward, Katelyn Paige

1979. Ward, Kathryn Evonne

1980. Ward, Lisa Michelle

1981. Warner, Brian Dale

1982. Warner, Cora Ethel

1983. Warner, Jason Lee

1984. Warner, Oliver Dale

1985. Watts, Brent William

1986. Watts, Caitlyn Eve

1987. Watts, Clifford O'Dell Jr.

1988. Watts, Clifford O'Dell Sr.

1989. Watts, Davin Blue

1990. Watts, Edwin Larsen

1991. Watts, Jenelle Sunshine

1992. Watts, Matthew Todacheeni

1993. Watts, Milton Everett

1994. Watts, Nellie Leone

1995. Watts, Paul Bradley

1996. Watts, Rodney Allan

1997. Watts, Sarita Janine

1998. Watts, Tristan Wade

1999. Watts, William D. Jr.

2000. Weathers, Mendy Jo

2001. Weaver, Sheryl Lynn

2002. Webb, Elizabeth Ashley

2003. Webb, Sharon Marlene

2004. Webster, Krista Marie

2005. Webster, Morgan Alyshia

2006. Wells, Kenneth Chad Varnadore

2007. Wells, Lou Gene

2008. Wheeler, Ashlin Nicole

2009. Wheeler, Bobbie Jean

2010. Wheeler, Chase Russell

2011. Wheeler, Tyson Robert

2012. White, Angela Dionne

2013. White, Deena Ann

2014. White, Eber Walter II

2015. White, Eber Walter

2016. White, Gail Blue

2017. White, Rocky Anthony II

2018. White, Rocky Anthony

2019. White, Sarah Elizabeth

2020. Whitesides, Keith Bernard

2021. Whitesides, Robert Charles

2022. Whitesides, Velma

2023. Whitlock, Sadie

2024. Wilburn, Amber Suzanne

2025. Wilburn, Brittany Paige

2026. Wilburn, Cecil Jr.

2027. Wilburn, Christopher Douglas

2028. Wilburn, David Adam Jr.

2029. Wilburn, David Adam Sr.

2030. Wilburn, Herman Franklin Jr.

2031. Wilburn, Jacqueline Nicole

2032. Wilburn, Ryan Anthony

2033. Wilburn, Stephanie Lauren

2034. Wilkinson, Benjamin Bruce

2035. Wilkinson, Kristin Lynn

2036. Wilkinson, Neil Gordon

2037. Wilkinson, Tarah Jean

2038. Wilkinson, Theresa J.

2039. Williams, Amy Carol

2040. Williams, Brent Lee

2041. Williams, Keith Eloit

2042. Williams, Mae Carol

2043. Williams, Phyllis DeLora

2044. Williams, Randy Alan

2045. Williams, Russell Shane

2046. Williford, Cecily Nicole

2047. Williford, David Cecil Jr.

2048. Williford, John Timothy

2049. Willis, Alice Grace

2050. Wilson, Billy Oliver

2051. Wilson, Brandy Jenny Rebecca

2052. Wilson, Brittany Morena

2053. Wilson, Christin Nicole

2054. Wilson, Claire

2055. Wilson, David Wayne

2056. Wilson, Donald Wayne Jr.

2057. Wilson, Donald Wayne Sr.

2058. Wilson, Edwin Keith

2059. Wilson, Heather Ann

2060. Wilson, Jeffrey Randall

2061. Wilson, Joseph Matthew

2062. Wilson, Joshua Michael

2063. Wilson, Kim Lyle

2064. Wilson, Kristy Nicole

2065. Wilson, Matthew David

2066. Wilson, Roy O'Dell Jr.

2067. Wilson, Roy O'Dell III

2068. Wilson, Stephanie Nicole

2069. Wilson, Steve Randall

2070. Wilson, Tanaja Carol

2071. Wilson, Todd L.

2072. Wilson, Travis Ronald

2073. Wilson, Violet

2074. Windham, Edd Leilon III

2075. Windham-Forbis, Shana Marie

2076. Woodell, Jennifer Kaitlyn

2077. Woolsey, Amber Jewell

2078. Wright, Carolyn Marie

2079. Wright, Christopher Allen

2080. Wright, Lewis Allen Jr.

2081. Wright, Nancy Deandrea

2082. Wright, Rose Mary

2083. Wright, Stephanie Brooke

2084. Wurdemann, Aaron Cole

2085. Wurdemann, Heyward Stone

2086. Wurdemann, John David Jr.

2087. Wurdemann, John David Sr.

2088. Wurdemann, Kenneth Wayne Jr.

2089. Wurdemann, Linda Ann

2090. Wurdemann, Lynn Canty

2091. Wurdemann, Natalie Ann

2092. Yates, Christopher Michael

2093. Yates, Courtney Michelle

2094. Yates, Rachel Beck

2095. Yonce, Michael Brandon

2096. Yonce, Patricia Groff

2097. Young, Amanda Elizabeth

2098. Young, Benjamin Michael

2099. Young, Jacob Yates

2100. Young, Jesse Alexander

2101. Young, Jonothan Howard

2102. Young, Kathryn Rachel

2103. Young, Kathryn Valerie

2104. Young, Laurie Michele

2105. Young, Pamela Jean

2106. Young, Peter William

2107. Young, Susan Gayle

[FR Doc. 00-18584 Filed 7-21-00; 8:45 am]

BILLING CODE 4310-02-P